DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey, September 2001 Computer and Internet Use Supplement.

Form Number(s): CPS-263(L), BC-1428.

Agency Approval Number: None.

Type of Request: New collection.

Burden: 7,600 hours.

Number of Respondents: 57,000.

Avg Hours Per Response: 8 minutes.

Needs and Uses: The purpose of this request for review is to obtain clearance for the supplemental inquiry concerning computer and Internet use to be conducted in conjunction with the September 2001 Current Population Survey (CPS). The proposed questions are designed to provide an up-to-date profile of American personal computer and Internet access and to provide information usage patterns using a variety of demographic and geographic measures. The resulting information will provide an objective and sound empirical basis for development of policies aimed to ensure that all Americans are able to participate in the Information Age. The survey will update the historical item series which began in 1989 and has expanded to Internet use topics such as main uses of the Internet, reasons for no household access, and locations other than the home where persons have access. This proposed collection expands on topics of interest such as use of alternative devices to access the Internet (cell phones, pagers, other hand-held devices), Internet use at school, and Internet use for job searches.

The data collection will be compiled and presented in a publication featuring an array of household demographic data, with breakouts by family income, age, race/origin, type of head of household, or reference person (e.g., female vs. male), households with or without children, level of educational attainment, and labor force status (employed vs. unemployed). Geographically, data will be collected by urban/rural/central city on a national level and by state. Regional data will also be obtained.

Affected Public: Individuals or households.

Frequency: Annually.

Respondent's Obligation: Voluntary.

Legal Authority: Title 13 U.S.C., Section 182; Title 29 U.S.C., Sections 1-9.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: June 14, 2001.
Madeleine Clayton,
Departmental Paperwork Clearance Officer, Office of the Chief Information Officer.

[FR Doc. 01-15429 Filed 6-18-01; 8:45 am]

BILLING CODE 3510-07-P